DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the program in general, contact the Clerk, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2017, through January 31, 2017. This list provides the name of the petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: February 16, 2017.
James Macrae,
Acting Administrator.

List of Petitions Filed

1. Susan North, Boston, Massachusetts, Court of Federal Claims No: 17-0001V.

2. Jaime Sanchez, El Monte, California, Court of Federal Claims No: 17-0002V.

3. Marsha Mercier, Jacksonville, Florida, Court of Federal Claims No: 17-0003V

4. James Cantwell on behalf of M. C., Deceased, Austin, Texas, Court of Federal Claims No: 17-0004V.

5. Deborah Gilburn, Boston, Massachusetts, Court of Federal Claims No: 17-0005V.

6. Jacqueline Hendrickson and Ken Koprowski on behalf of C. J. H., Crystal River, Florida, Court of Federal Claims No: 17-0006V.

7. Danielle Goddard on behalf of A. G., Queen Creek, Arizona, Court of Federal Claims No: 17-0007V.

8. Cathy Hesson on behalf of The Estate of Bernadette Sokol, Deceased, Pittsburgh, Pennsylvania, Court of Federal Claims No: 17-0008V.

9. Roger Lamarre, Cranston, Rhode Island, Court of Federal Claims No: 17-0010V.

10. Edith Marrero-Fuog, Parrish, Florida, Court of Federal Claims No: 17-0011V.

11. Gregory Hooper, Ogdensburg, New York, Court of Federal Claims No: 17-0012V.

12. Thomas Prestia, Easton, Pennsylvania, Court of Federal Claims No: 17-0013V.

13. Anthony Capasso, Portsmouth, Rhode Island, Court of Federal Claims No: 17-0014V.

14. Robert Kirk Collier, Jr., Roseburg, Oregon, Court of Federal Claims No: 17-0016V.

15. Rita Rollins and Steve Rollins on behalf of M. R., Lavonia, Georgia, Court of Federal Claims No: 17-0017V.

16. Tanya Tucker, Clearwater, Florida, Court of Federal Claims No: 17-0020V.

17. Daniel Monahan, Norwalk, Connecticut, Court of Federal Claims No: 17-0021V.

18. Teresa Voors on behalf of W. V., Deceased, Farmington Hills, Michigan, Court of Federal Claims No: 17-0024V.

19. Sean Taylor, Bristol, Connecticut, Court of Federal Claims No: 17-0025V.

20. Phineas Adam Turner on behalf of E. L. T., Grand Prairie, Texas, Court of Federal Claims No: 17-0027V.

21. Ellen Snyder, Abington, Pennsylvania, Court of Federal Claims No: 17-0028V.

22. Vanetta Parshall, East Rochester, New York, Court of Federal Claims No: 17-0029V.

23. Jacqueline Hill, Saginaw, Michigan, Court of Federal Claims No: 17-0030V.

24. Cynthia Dean, Ottawa, Illinois, Court of Federal Claims No: 17-0031V.

25. Brenda Vance, Milford, Ohio, Court of Federal Claims No: 17-0033V.

26. Alice Sorensen, Brooklyn, New York, Court of Federal Claims No: 17-0034V.

27. Tammy Gilbert, Boston, Massachusetts, Court of Federal Claims No: 17-0035V.

28. Dawn E. Amankwaa and Benjamin S. Andrews on behalf of B. M. A., Liverpool, New York, Court of Federal Claims No: 17-0036V.

29. Janice Ennen, Collinsville, Illinois, Court of Federal Claims No: 17-0039V.

30. Lashawn Johnson, Jacksonville, Florida, Court of Federal Claims No: 17-0040V.

31. Donna Black, Stayton, Oregon, Court of Federal Claims No: 17-0042V.

32. Donna Kastl, Kansas City, Missouri, Court of Federal Claims No: 17-0043V.

33. Jacqueline Nicole Brasche on behalf of C. B., Taylorville, Illinois, Court of Federal Claims No: 17-0044V.

34. Alan B. Shepherd, London, Kentucky, Court of Federal Claims No: 17-0045V.

35. Leanne Lewis, Cary, North Carolina, Court of Federal Claims No: 17-0046V.

36. Angela Turner, Normangee, Texas, Court of Federal Claims No: 17-0047V.

37. Julie Lynch, Boston, Massachusetts, Court of Federal Claims No: 17-0050V.

38. Coy Claude Fredell, Kings Mountain, North Carolina, Court of Federal Claims No: 17-0051V.

39. Timothy Maxie on behalf of Connie Maxie, Deceased, Chillicothe, Ohio, Court of Federal Claims No: 17-0053V.

40. Kristy Boone on behalf of Kaylee Anne Boone, Deceased, Wellesley Hills, Massachusetts, Court of Federal Claims No: 17-0054V.

41. Ryan Horton and Karin Jonch-Clausen on behalf of L.E.H., Deceased, Baraboo, Wisconsin, Court of Federal Claims No: 17-0055V.

42. Donna Nault, Fort Scott, Kansas, Court of Federal Claims No: 17-0056V.

43. Dale MacLaughlin, Clayton, New York, Court of Federal Claims No: 17-0057V.

44. Teresa Voors on behalf of W.V., Farmington Hills, Michigan, Court of Federal Claims No: 17-0058V.

45. Lisa Johnson, Charlotte, North Carolina, Court of Federal Claims No: 17-0059V.

46. Arthur Binkowitz, West Palm Beach, Florida, Court of Federal Claims No: 17-0061V.

47. Teresa Turko, Schertz, Texas, Court of Federal Claims No: 17-0062V.

48. Patricia Heckman, Onalaska, Wisconsin, Court of Federal Claims No: 17-0063V.

49. Anthony Rizzo, Middletown, New York, Court of Federal Claims No: 17-0066V.

50. Mary Mallory, Washington, District of Columbia, Court of Federal Claims No: 17-0068V.

51. Jennifer Curtis, Rancho Cucamonga, California, Court of Federal Claims No: 17-0069V.

52. Rita Pingel, Perryville, Missouri, Court of Federal Claims No: 17-0070V.

53. Amanda Samuels, Wellesley, Massachusetts, Court of Federal Claims No: 17-0071V.

54. Deborah Kent, Hart, Michigan, Court of Federal Claims No: 17-0073V.

55. Mark A. Soprano, Cortland, New York, Court of Federal Claims No: 17-0074V.

56. Richard R. Bernard, Orlando, Florida, Court of Federal Claims No: 17-0076V.

57. Alfreda Aberto and Wilber Lopez on behalf of J.L.A., Sacramento, California, Court of Federal Claims No: 17-0077V.

58. Stanley K. Paul, Susanville, California, Court of Federal Claims No: 17-0078V.

59. Luke Caredio and Jamielee Caredio on behalf of D.C., San Mateo, California, Court of Federal Claims No: 17-0079V.

60. Glendella May, Cape Girardeau, Missouri, Court of Federal Claims No: 17-0081V.

61. Michael Lauer, Whitefish Bay, Wisconsin, Court of Federal Claims No: 17-0082V.

62. Yvonnda D. Fykerud, Greensboro, North Carolina, Court of Federal Claims No: 17-0084V.

63. Lauren Shaw, Jacksonville, Florida, Court of Federal Claims No: 17-0085V.

64. Janice Kilpatrick, Washington, District of Columbia, Court of Federal Claims No: 17-0089V.

65. Raymond Flacke, Chicago, Illinois, Court of Federal Claims No: 17-0090V.

66. Deborah Easterbrook, Mankato, Minnesota, Court of Federal Claims No: 17-0091V.

67. Sheryl Longin, Los Angeles, California, Court of Federal Claims No: 17-0093V.

68. Dolores Thompson, St. Petersburg, Florida, Court of Federal Claims No: 17-0098V.

69. Elizabeth A. Harris, North Kansas City, Missouri, Court of Federal Claims No: 17-0099V.

70. Eugenio Paulo De Souza, Ringoes, New Jersey, Court of Federal Claims No: 17-0100V.

71. Cheryl Garvin, Boston, Massachusetts, Court of Federal Claims No: 17-0101V.

72. Maria Peters, O'Fallon, Missouri, Court of Federal Claims No: 17-0102V.

73. Devora Stamm, Lakewood, New Jersey, Court of Federal Claims No: 17-0103V.

74. Willis J. DeNuto on behalf of Andrea DeNuto, Deceased, Lyndhurst, New Jersey, Court of Federal Claims No: 17-0104V.

75. Tracy Gambrill and Kevin Gambrill on behalf of R. G., Little Rock, Arkansas, Court of Federal Claims No: 17-0105V.

76. Marcia Miller, Mankato, Minnesota, Court of Federal Claims No: 17-0106V.

77. Willie D. Webb, Tulsa, Oklahoma, Court of Federal Claims No: 17-0107V.

78. Jeffrey Caputo, Lima, Ohio, Court of Federal Claims No: 17-0108V.

79. Frances Ruzicka, Piermont, New York, Court of Federal Claims No: 17-0109V.

80. Mary M. Schoeller, Baraboo, Wisconsin, Court of Federal Claims No: 17-0111V.

81. Jean Lallensack, Boston, Massachusetts, Court of Federal Claims No: 17-0112V.

82. Tiffany Cooper, Ludowici, Georgia, Court of Federal Claims No: 17-0114V.

83. Gloria Harman, Lake Worth, Florida, Court of Federal Claims No: 17-0116V.

84. Harriet Paul, Harrisburg, Pennsylvania, Court of Federal Claims No: 17-0117V.

85. Jennifer Blankenship, Lincoln, Nebraska, Court of Federal Claims No: 17-0118V.

86. Angela Chambers, Tulsa, Oklahoma, Court of Federal Claims No: 17-0120V.

87. Cindy Vinck, Evanston, Illinois, Court of Federal Claims No: 17-0121V.

88. Chelsea Bossenbroek, Westmont, Illinois, Court of Federal Claims No: 17-0122V.

89. Jennifer L. Good, Champaign, Illinois, Court of Federal Claims No: 17-0124V.

90. Elizabeth Harrison, Baton Rouge, Louisiana, Court of Federal Claims No: 17-0126V.

91. Bonita Rosner, Kenosha, Wisconsin, Court of Federal Claims No: 17-0127V.

92. Gloria Aulston, Baltimore, Maryland, Court of Federal Claims No: 17-0128V.

93. William Branson, Hudson, Wyoming, Court of Federal Claims No: 17-0131V.

94. Steve Helms, Vinton, Iowa, Court of Federal Claims No: 17-0132V.

95. Joanna Oakley, Lawrenceville, Georgia, Court of Federal Claims No: 17-0133V.

96. Kellie Duncan, Kenosha, Wisconsin, Court of Federal Claims No: 17-0134V.

97. Gary Naylor, Palmdale, California, Court of Federal Claims No: 17-0135V.

98. Lois Oliver, Burlington, Kentucky, Court of Federal Claims No: 17-0136V.

99. Tanya Mckoy, Murfreesboro, Tennessee, Court of Federal Claims No: 17-0138V.

100. Judith Celic, Boston, Massachusetts, Court of Federal Claims No: 17-0139V.

101. Irving Kodimer, Woodland Hills, California, Court of Federal Claims No: 17-0140V.

102. Michael Howells, Washington, District of Columbia, Court of Federal Claims No: 17-0142V.

103. Valeria Hernandez on behalf of S. H., Whittier, California, Court of Federal Claims No: 17-0143V.

104. Kyle James Wetterling, Newton, Iowa, Court of Federal Claims No: 17-0144V.

105. Debra Vizzi, Novi, Michigan, Court of Federal Claims No: 17-0145V.

106. Shanna Kristine Brown, Birmingham, Alabama, Court of Federal Claims No: 17-0146V.

107. Mark Bracken and Jacki Bracken on behalf of J. B., Gilbert, Arizona, Court of Federal Claims No: 17-0147V.

108. Jeffrey Heaney, Beverly Hills, California, Court of Federal Claims No: 17-0148V.

109. Rodney McDonald, Brooklyn, New York, Court of Federal Claims No: 17-0149V.

110. John Hopper, Joplin, Missouri, Court of Federal Claims No: 17-0150V.

111. Laurence Lewis, Boston, Massachusetts, Court of Federal Claims No: 17-0151V.

112. Dennis Schaeffer, Hanover, Maryland, Court of Federal Claims No: 17-0152V.

[FR Doc. 2017-03856 Filed 2-27-17; 8:45 am]

BILLING CODE 4165-15-P